ENVIRONMENTAL PROTECTION AGENCY

[EPA-HQ-OPP-2013-0485; FRL-9902-60]

FIFRA Scientific Advisory Panel; Notice of Rescheduled Public Meeting

AGENCY: Environmental Protection Agency (EPA).

ACTION: Notice.

SUMMARY: The Agency is issuing this notice to reschedule the 1-day meeting of the Federal Insecticide, Fungicide, and Rodenticide Act Scientific Advisory Panel (FIFRA SAP) to consider and review, RNAi Technology as a Pesticide: Problem Formulation for Human Health and Ecological Risk Assessment. The meeting was announced in the Federal Register on August 15, 2013. The Agency issued a notice of cancellation in the Federal Register on October 28, 2013. The new meeting date is January 28, 2014.

DATES: The meeting will be held on January 28, 2014, from 9 a.m. to approximately 6 p.m.

Comments. The Agency encourages that written comments and requests for oral comments be submitted by January 20, 2014. However, written comments and requests to make oral comments may be submitted until the date of the meeting, but anyone submitting written comments after January 20, 2014, should contact the Designated Federal Official (DFO) listed under FOR FURTHER INFORMATION CONTACT. For additional instructions, see the SUPPLEMENTARY INFORMATION.

ADDRESSES: The meeting will be held at the Environmental Protection Agency, Conference Center, Lobby Level, One Potomac Yard (South Bldg.), 2777 S. Crystal Dr., Arlington, VA 22202.

FOR FURTHER INFORMATION CONTACT: Sharlene Matten, DFO, Office of Science Coordination and Policy (7201M), Environmental Protection Agency, 1200 Pennsylvania Ave. NW., Washington, DC 20460-0001; telephone number: (202) 564-0130; fax number: (202) 564-8382; email address: matten.sharlene@epa.gov.

SUPPLEMENTARY INFORMATION: A cancellation notice was published in the Federal Register on October 28, 2013 (78 FR 64211) (FRL-9902-08). All other information provided in the Federal Register on August 15, 2013 (78 FR 49750) (FRL-9393-3) remains unchanged.

List of Subjects

Environmental protection, Pesticides and pests.

Dated: November 6, 2013.
Steven M. Knott,
Acting Director, Office of Science Coordination and Policy.

[FR Doc. 2013-27430 Filed 11-14-13; 8:45 am]

BILLING CODE 6560-50-P